DEPARTMENT OF LABOR

Employment and Training Administration

[TA-W-59,734]

Madison Industries Incorporated; Sumter, SC; Notice of Termination of Investigation

Pursuant to section 221 of the Trade Act of 1974, as amended, an investigation was initiated on July 17, 2006 in response to a petition filed by a company official on behalf of workers of Madison Industries Incorporated, Sumter, South Carolina.

The petitioner has requested that the petition be withdrawn. Consequently, the investigation has been terminated.

Signed in Washington, DC, this 18th day of July 2006.
Linda G. Poole,
Certifying Officer, Division of Trade Adjustment Assistance.

[FR Doc. E6-13179 Filed 8-10-06; 8:45 am]

BILLING CODE 4510-30-P